SMALL BUSINESS ADMINISTRATION

[Disaster Declaration #20258; MARYLAND Disaster Number MD-20001 Declaration of Economic Injury]

Administrative Declaration of an Economic Injury Disaster for the State of Maryland

AGENCY: U.S. Small Business Administration.

ACTION: Notice.

SUMMARY: This is a notice of an Economic Injury Disaster Loan (EIDL) declaration for the State of Maryland dated 03/29/2024. This catastrophe has far-ranging effects for businesses throughout the state, surrounding areas and are of national scale and significance.

Incident: Francis Scott Key Bridge Collapse.

Incident Period: 03/26/2024 and continuing.

DATES: Issued on 03/29/2024.

Economic Injury (EIDL) Loan Application Deadline Date: 12/30/2024.

ADDRESSES: Visit the MySBA Loan Portal at https://lending.sba.gov to apply for a disaster assistance loan.

FOR FURTHER INFORMATION CONTACT: Vanessa Morgan, Office of Disaster Recovery & Resilience, U.S. Small Business Administration, 409 3rd Street SW, Suite 6050, Washington, DC 20416, (202) 205-6734.

SUPPLEMENTARY INFORMATION: Notice is hereby given that as a result of the Administrator's EIDL declaration, applications for disaster loans may be submitted online using the MySBA Loan Portal https://lending.sba.gov or other locally announced locations. Please contact the SBA disaster assistance customer service center by email a disastercustomerservice@sba.gov or by phone at 1-800-659-2955 for further assistance.

The following areas have been determined to be adversely affected by the disaster:

Primary Counties: Allegany, Anne Arundel, Baltimore, Baltimore, Calvert, Caroline, Carroll, Cecil, Charles, Dorchester, Frederick, Garrett, Harford, Howard, Kent, Montgomery, Prince George's, Queen Anne's, Somerset, St. Mary's, Talbot, Washington, Wicomico, Worcester.

Contiguous Counties:

Delaware: Kent, New Castle, Sussex.

District Of Columbia: District of Columbia.

Pennsylvania: Fulton, Franklin, Adams, York, Bedford, Fayette, Lancaster, Somerset, Chester.

Virginia: Arlington, Alexandria, Loudoun, Accomack, Fairfax County.

West Virginia: Morgan, Berkeley, Jefferson, Hampshire, Mineral, Grant, Preston.

The Interest Rates are:

| Percent
Business and Small Agricultural Cooperatives without Credit Available Elsewhere | 4.000
Non-Profit Organizations without Credit Available Elsewhere | 3.250

The number assigned to this disaster for economic injury is 202580.

The States which received an EIDL Declaration are Delaware, District of Columbia, Maryland, Pennsylvania, Virginia, West Virginia.

(Catalog of Federal Domestic Assistance Number 59008)

Isabella Guzman,
Administrator.

[FR Doc. 2024-07122 Filed 4-3-24; 8:45 am]

BILLING CODE 8026-09-P